DEPARTMENT OF HEALTH AND HUMAN SERVICES

Office of Inspector General

Program Exclusions: November 2003

AGENCY: Office of Inspector General, HHS.

ACTION: Notice of program exclusions.

During the month of November 2003, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation, Office of Inspector General—DHHS, Case Investigation Management System
[For Press Release From 11/01/2003—11/30/2003]
Subject name | Address | Effective date
PROGRAM-RELATED CONVICTIONS:
ALLEN, KENNETH | JUNCTION, UT | 12/18/2003
ALMO, JENNIFER | LEXINGTON, MS | 12/18/2003
ALVARENGA, MARIA | LOS ANGELES, CA | 12/18/2003
ARRIOLA, ALICIA | BELL GARDENS, CA | 12/18/2003
ATTIKIAN, ARMEN | VAN NUYS, CA | 12/18/2003
BARMORE, BURTON | GOLDSBORO, NC | 12/18/2003
BELL, DIANE | HOUSTON, TX | 12/18/2003
BIRMINGHAM REHABILITATION & PHYSICAL THERAPY CTR, INC | BLOOMFIELD, MI | 12/18/2003
BRADLEE PHARMACY, INC | LAS VEGAS, NV | 12/18/2003
BURDEN, MARGARET | VIDALIA, LA | 12/18/2003
CORE, NICKLAUS | CHANDLER, AZ | 12/18/2003
EMMONS, ROSLYN | WASHINGTON, VT | 12/18/2003
GAZO, MARIA | NORWALK, CA | 12/18/2003
GOFF, ELBERT | LOUISVILLE, KY | 12/18/2003
GRAHAM, CARLIN | TALLADEGA, AL | 12/18/2003
HEWETT, NANCY | EIGHT MILE, AL | 12/18/2003
ISMAIL, MOHAMED | PARSIPPANY, NJ | 12/18/2003
JONES, GARY | ASHLAND, KY | 12/18/2003
LEE, CHANG | LOS ANGELES, CA | 12/18/2003
LEE, JONATHON | LOS ANGELES, CA | 12/18/2003
LOPEZ, JANICE | YORKTOWN HGTS, NY | 12/18/2003
LUCERO, RUBI | SANTE FE, NM | 12/18/2003
LUIS, RAFAEL | SALT LAKE CITY, UT | 12/18/2003
LUND, KATHLEEN | TEMPE, AZ | 12/18/2003
MARTINEZ, TERESA | ORLANDO, FL | 12/18/2003
MAYO, HEATHER | WEST VALLEY CITY, UT | 12/18/2003
MCCOLLUM, WILLIAM | BIRMINGHAM, AL | 12/18/2003
MILLS, BRIAN | BEAUMONT, TX | 12/18/2003
MOORE, ROSIE | PHOENIX, AZ | 12/18/2003
MURADIAN, HRIPSIME | GLENDALE, CA | 12/18/2003
NEVIS, RICHARD | MESA, AZ | 12/18/2003
PARMA, JAMES | SCHULENBURG, TX | 12/18/2003
PONDERS, LASHON | HOLLYWOOD, FL | 12/18/2003
RICHARDSON, KEVIN | ARCADIA, FL | 12/18/2003
SAITO, IMELDA | WATERLOO, NY | 12/18/2003
SCHALLER, DEBRA | MODESTO, CA | 12/18/2003
SMITH, LESTER | LITTLE ROCK, AR | 12/18/2003
STARKEY, DARLENE | ALDERSON, WV | 12/18/2003
STRICKLAND, CONSTANTINA | GLENDALE, AZ | 12/18/2003
STRICKLAND, PAMELA | EAGLE CREEK, OR | 12/18/2003
THACHER, FREDERICK | DULUTH, MN | 12/18/2003
TOLIBLE, CAROLYN | BRANDON, MS | 12/18/2003
WALLACE, CATHERINE | COVENTRY, RI | 12/18/2003
WALLER, LAFANTA | BELZONI, MS | 12/18/2003
WREN, ALAN | ALBUQUERQUE, NM | 12/18/2003
FELONY CONVICTION FOR HEALTH CARE FRAUD:
ADAS, MOHAMMAD | MAUMEE, OH | 12/18/2003
FORESTER, BRUCE | BRONXVILLE, NY | 12/18/2003
GATES, LAURIE | EAGLE BRIDGE, NY | 12/18/2003
HOUSHYARIMANESH, HAMID | FULLERTON, CA | 12/18/2003
LACY, MICHAEL | WESTERVILLE, OH | 12/18/2003
LINDER, MICHAEL | HUTCHINSON, KS | 12/18/2003
OSWALD, THOMAS | WADSWORTH, OH | 12/18/2003
POWELL, LEO | MONROVIA, CA | 12/18/2003
RINGLE, WILLIAM | WESTERVILLE, OH | 12/18/2003
RUSSELL, BONNIE | BRONX, NY | 12/18/2003
TOUSIGNANT, ANASTACIA | MORRISTOWN, MN | 12/18/2003
FELONY CONTROL SUBSTANCE CONVICTION:
ANDERSON, CHERI | KINGMAN, AZ | 12/18/2003
AUSTIN, GERALD | SAN JOSE, CA | 12/18/2003
BROOKS, SARITA | CALDWELL, AR | 12/18/2003
CHAMBERS, DONNA | GREENEVILLE, TN | 12/18/2003
CUCHNA, DENISE | GLYNDON, MN | 12/18/2003
DAVIES, BRIAN | AKRON, OH | 12/18/2003
GIEBLER, COLLEEN | WARMINSTER, PA | 12/18/2003
GOIN, JYL | VANDALIA, MO | 12/18/2003
LUNDIN, DEBORAH | ANKENY, IA | 12/18/2003
LYNCH, CATHEY | SHELBYVILLE, TN | 12/18/2003
MORGAN, LAURA | VAL RICO, FL | 12/18/2003
STEWART, LAURA | COLORADO SPRINGS, CO | 12/18/2003
WELLS, TINA | PARIS, KY | 12/18/2003
PATIENT ABUSE/NEGLECT CONVICTIONS:
BABCOCK, WILLIAM | COALINGA, CA | 12/18/2003
CRENSHAW, RHEANNON | FORT WALTON BEACH, FL | 12/18/2003
CULVER, BETTY | COLCORD, OK | 12/18/2003
FAISON, PATRICIA | FAR ROCKAWAY, NY | 12/18/2003
FEDERSPIEL, STEPHEN | LONG BEACH, CA | 12/18/2003
FELLERS, TYRONE | FORREST CITY, AR | 12/18/2003
HOLMES, ERNEST | WETUMPKA, AL | 12/18/2003
JACOBS, JUANITA | COLORADO SPRINGS, CO | 12/18/2003
LIVINGSTON, MARK | ROY, UT | 12/18/2003
MARCOTTE, CHERIE | SPRINGFIELD, VT | 12/18/2003
McCARTER, VALERIE | BUFFALO, NY | 12/18/2003
PELKEY, PAMELA | WILLSBORO, NY | 12/18/2003
SAWYER, DAVID | MOBERLY, MO | 12/18/2003
WARD, PAUL | MOORE, OK | 12/18/2003
CONVICTION FOR HEALTH CARE FRAUD:
RAMSDEN, JOHN | POUGHKEEPSIE, NY | 12/18/2003
LICENSE REVOCATION/SUSPENSION/SURRENDER:
ALEXANDER, BRENDA | TOPEKA, KS | 12/18/2003
ALLNUTT-ETLER, MARSHA | OWENTON, KY | 12/18/2003
ARTHUR, EVA | UNION, MS | 12/18/2003
BAILEY, JANET | ST PETERSBURG, FL | 12/18/2003
BAKARIC, ABBIE | TOOELE, UT | 12/18/2003
BARBATO, STEVEN | DURHAM, NC | 12/18/2003
BOBO, PATTY | CLAREMORE, OK | 12/18/2003
BOWLING, ROBIN | CHANDLER, AZ | 12/18/2003
BOYD, KARLA | CORTE MADERA, CA | 12/18/2003
BRAINE, JAMES | EDMOND, OK | 12/18/2003
BRANNON, RYAN | PHOENIX, AZ | 12/18/2003
BRENDE, MARTI | CUERO, TX | 12/18/2003
BRESNICK, SIMON | EGGERTSVILLE, NY | 12/18/2003
BROACH, STACY | PINE BLUFF, AR | 12/18/2003
BROWN, DEMETRIA | PHOENIX, AZ | 12/18/2003
BURDETT, STEVEN | GLOBE, AZ | 12/18/2003
BURGESS, CAROLINE | MESA, AZ | 12/18/2003
CABANA, JUDY | SEWARD, AK | 12/18/2003
CARAVAGELI, ANTHENE | COSTA MESA, CA | 12/18/2003
CARNES, JAMES | CHARLOTTE, NC | 12/18/2003
CARUTHERS, JEFFERY | LA QUINTA, CA | 12/18/2003
CASEY, JOAN | FLAGSTAFF, AZ | 12/18/2003
CHALAL, RICHARD | RUSSELLVILLE, AL | 12/18/2003
CLARK, BEVERLY | AMARILLO, TX | 12/18/2003
CLARK, DAVID | CARMEL, CA | 12/18/2003
CLARK, JACOB | PORT ARANSAS, TX | 12/18/2003
CLARK, LISA | EASTABOGA, AL | 12/18/2003
CLAYPOOL, PATRICIA | AUSTIN, TX | 12/18/2003
COE, LAILA | PHOENIX, AZ | 12/18/2003
CONARD, MICHELE | TRENTON, NJ | 12/18/2003
COOPER, RALPH | JOPLIN, MO | 12/18/2003
CURRY, GEORGE | MARISSA, IL | 12/18/2003
CUTCLIFFE, SHIRLEY | NIPOMO, CA | 12/18/2003
CZARNOTA, TRACI | CARTERET, NJ | 12/18/2003
DANKA, PAMELA | NAUGATUCK, CT | 12/18/2003
DARWIN, KAREN | HEREFORD, AZ | 12/18/2003
DENTON, TAWANNA | STANFORD, KY | 12/18/2003
DESAI, PANKAJ | NEW HARTFORD, NY | 12/18/2003
DOOYEN, JUANITA | PHOENIX, AZ | 12/18/2003
DOWNEY, AMY | ONEONTA, NY | 12/18/2003
DRISKILL, MARK | GRAND JUNCTION, CO | 12/18/2003
DRUMM, DEBORAH | SCHUYLERVILLE, NY | 12/18/2003
EMHE, STEPHEN | MEDIA, PA | 12/18/2003
EPHAULT, PATRICIA | SCRANTON, PA | 12/18/2003
EVANS, MARK | LA QUINTA, CA | 12/18/2003
FEIGEL, LISA | PITTSBURGH, PA | 12/18/2003
FONTAINE, DIANNE | WARWICK, RI | 12/18/2003
FORRESTER, MARY | BOWLING GREEN, KY | 12/18/2003
FRIDLEY, MICHELLE | PASCO, WA | 12/18/2003
GABRIEL, STACEY | CLOVERDALE, CA | 12/18/2003
GALLAHAIR, NINA | MUNFORD, AL | 12/18/2003
GARCIA, CHARLOTTE | ESCONDIDO, CA | 12/18/2003
GATES, PARYLUE | RIVIERA BEACH, FL | 12/18/2003
GEDRIMAS, ANDREW | CHICAGO, IL | 12/18/2003
GEVEDON, ROBERT | LEXINGTON, KY | 12/18/2003
GIBBS, KATHY | RACELAND, KY | 12/18/2003
GILSON, BRYAN | GRIFFIN, GA | 12/18/2003
GONZALES, ANGELICA | PHOENIX, AZ | 12/18/2003
GONZALES, SANDRA | PHOENIX, AZ | 12/18/2003
GROSSMAN, KRISTY-JO | LACEY, WA | 12/18/2003
GUIDOTTI, JANICE | PHILADELPHIA, PA | 12/18/2003
GUILIANO, GINA | WOODCLIFF LAKES, NJ | 12/18/2003
GWON, SAMUEL | LOS ANGELES, CA | 12/18/2003
HADLEY, RUSSELL | LEESBURG, GA | 12/18/2003
HARDING, LISA | POWNAL, VT | 12/18/2003
HENRY-CAMPER, JOYCE | CLEARWATER, FL | 12/18/2003
HERINGTON, JULIE | FLORENCE, AZ | 12/18/2003
HILL, PAUL | MONTE RIO, CA | 12/18/2003
HINKLE, SHELLEY | BIRMINGHAM, AL | 12/18/2003
HOLBROOK, GEORGE | TUCKER, GA | 12/18/2003
HOLLIDAY, DAVID | MERIDIAN, MS | 12/18/2003
HOLLIER, SUSAN | BOSSIER CITY, LA | 12/18/2003
HOLSINGER, LORI | FLATWOODS, KY | 12/18/2003
HOLT, VALERIE | PHOENIX, AZ | 12/18/2003
HOUGLIN, TERRI | LOUISVILLE, KY | 12/18/2003
HUCKABY, ANTONETTE | PHOENIX, AZ | 12/18/2003
HUDSON, RUBYJEAN | MARYSVILLE, WA | 12/18/2003
HUNTER, DIANE | KINGFISHER, OK | 12/18/2003
JAMES, SCOTT | MAPLE VALLEY, WA | 12/18/2003
JENKINS, JAN | MARTINEZ, GA | 12/18/2003
JORDAN, RICHARD | CHINO HILLS, CA | 12/18/2003
JUNCO, VICTOR | MIAMI BEACH, FL | 12/18/2003
KHAN, RUBAB | LAWRENCEVILLE, GA | 12/18/2003
KIBALLO, MARIAN | WARETOWN, NJ | 12/18/2003
KIRIKO, PATRICIA | CANOGA PARK, CA | 12/18/2003
KOGAN, VADIM | PRINCETON JUNCTION, NJ | 12/18/2003
KORMAN, CAROL | BOCA RATON, FL | 12/18/2003
KRUGLIKOV, STANISLAV | DULUTH, MN | 12/18/2003
LANDRUM, EUGENE | CHICAGO, IL | 12/18/2003
LAVELLE, BARBARA | RIDGEFIELD, NJ | 12/18/2003
LEISER, ROBERT | DECATUR, IL | 12/18/2003
LILLY, APRIL | MOUNT VERNON, IL | 12/18/2003
LINDQUIST-BOBER, LORRAINE | ROLLING MEADOWS, IL | 12/18/2003
LOCKLEAR, SHARON | PEMBROKE, NC | 12/18/2003
LOCKOSKI, TAMMY | HOUSTON, PA | 12/18/2003
LONG, JOHN | SANTA ROSA, CA | 12/18/2003
LOPEZ, CAROLE | FRESNO, CA | 12/18/2003
LUBIN, BARRY | ATLANTA, GA | 12/18/2003
MARANGI, ROSEMARIE | COARSEGOLD, CA | 12/18/2003
MARTIN, HEATHER | WAUKON, IA | 12/18/2003
MCBRIDE, RITA | NEW MARKET, AL | 12/18/2003
MCCALLUM, AMY | HILLSBOROUGH, NC | 12/18/2003
MCFALL, TARA | HARROGATE, TN | 12/18/2003
MCLAREN, JACQUELYN | BATON ROUGE, LA | 12/18/2003
MCWILLIAMS, MICHELLE | PETERSBURG, IL | 12/18/2003
MINOR, JULIE | ADAMSVILLE, AL | 12/18/2003
MOEN, EDNA | SPOKANE, WA | 12/18/2003
MORGAN, MELODY | MOULTON, AL | 12/18/2003
MORPHEW, LISA | PHOENIX, AZ | 12/18/2003
MULLER, MARIANNE | FORT COLLINS, CO | 12/18/2003
MYERS NEWTON, TONYA | WOODWARD, OK | 12/18/2003
NICHOLSON, GINGER | RINGWOOD, OK | 12/18/2003
NOTTINGHAM, MARY | LAWTON, OK | 12/18/2003
OHORO, CHERYL | MESA, AZ | 12/18/2003
OUELLETT, KEVIN | NEW BRITAIN, CT | 12/18/2003
PAULI, LLOYD | COLORADO SPRINGS, CO | 12/18/2003
PEISTER, JODI | SUFFERN, NY | 12/18/2003
PEZOA, LOIS | AURORA, CO | 12/18/2003
PLAZA, JOSE | CORAL GABLES, FL | 12/18/2003
PO, TEOFILO | WHITTIER, CA | 12/18/2003
QUINTANA, OSCAR | HOUSTON, TX | 12/18/2003
RANDALL, DOUGLAS | ERIE, PA | 12/18/2003
REED, CARISA | SAN DIEGO, CA | 12/18/2003
REED, MARIA | MESA, AZ | 12/18/2003
ROBBINS, EDWARD | NEW TAZEWELL, TN | 12/18/2003
ROMERO-ROMERO, H | SAN DIEGO, CA | 12/18/2003
ROSE, VICKI | HAMBURG, PA | 12/18/2003
RUIZESPARZA, NANCY | HUNTINGTON PARK, CA | 12/18/2003
SANDORE, RICHARD | ZION, IL | 12/18/2003
SCHOETTMER, PAULA | EAGLETOWN, OK | 12/18/2003
SEATON, KAREN | SACRAMENTO, CA | 12/18/2003
SELF, CHERYL | SIERRA VISTA, AZ | 12/18/2003
SEVIGNY, WILLIAM | SANFORD, ME | 12/18/2003
SHARP, MARY | PHOENIX, AZ | 12/18/2003
SHIRLEY, CHERYL | KNOXVILLE, TN | 12/18/2003
SKIBA, TERRY | EWA BEACH, HI | 12/18/2003
SLUSHER, RODNEY | SPARTANBURG, SC | 12/18/2003
SMITH, TRISH | CROFTON, KY | 12/18/2003
SPRAGIS, JENNIFER | MARINGOUIN, LA | 12/18/2003
STAFFORD, RALPH | PHOENIX, AZ | 12/18/2003
STEINER, BARBARA | UNCASVILLE, CT | 12/18/2003
STELLER, ROBERT | LOS ANGELES, CA | 12/18/2003
SUDELL, LORI | GREENWICH, CT | 12/18/2003
TEARPAK, SUZI | PUEBLO, CO | 12/18/2003
TERRY, HERBERT | WATERBURY, CT | 12/18/2003
TESCHNER, JANIE | GREENSBORO, AL | 12/18/2003
THOMAS, KELLY | KAYSVILLE, UT | 12/18/2003
THOMAS, MARY | MORRISVILLE, VT | 12/18/2003
TINDLE, GARY | OKLAHOMA CITY, OK | 12/18/2003
TRASLAVINA, CECILIA | GLENDALE, AZ | 12/18/2003
TRUDO, MATHEW | FRIENDSWOOD, TX | 12/18/2003
TSAROS, LORAINE | SANTA MARIA, CA | 12/18/2003
TUCKER, CHERYL | FLAGSTAFF, AZ | 12/18/2003
VAHEY, RENEE | O'FALLON, MO | 12/18/2003
VANDERGRIFT, PATRICK | RAGLAND, AL | 12/18/2003
VAUGHN, DELANA | ABERDEEN, NC | 12/18/2003
VOEGTLIN, MARY | WOODBRIDGE, VA | 12/18/2003
WALLACE, LYNETTE | POLKTON, NC | 12/18/2003
WALTER, RICHARD | YAKIMA, WA | 12/18/2003
WARGO, JOHN | GLASSPORT, PA | 12/18/2003
WARWICK, SCOTT | WATERTOWN, SD | 12/18/2003
WEBER, MARGARET | NEWFOUNDLAND, NJ | 12/18/2003
WESTON, PAMELA | MESA, AZ | 12/18/2003
WIGGINS, JACKIE | TUCSON, AZ | 12/18/2003
WILLIAMS, ANGELA | ARLEY, AL | 12/18/2003
WILSON, KAREN | BELLFLOWER, CA | 12/18/2003
WILSON, REGINALD | REDDING, CA | 12/18/2003
WISNESKI, DAVID S | WINDSOR, CT | 12/18/2003
WOLCHOK, SUSAN | NEW PORT RICHEY, FL | 12/18/2003
WOO, HILDA | MONTEREY PARK, CA | 12/18/2003
YERMOLENKO, STEPAN | SACRAMENTO, CA | 12/18/2003
FEDERAL/STATE EXCLUSION/SUSPENSION:
BANKS, KENNETH | CAMDEN, NJ | 12/18/2003
OWNED/CONTROLLED BY CONVICTED ENTITIES:
HEARTLAND ANESTHESIA, PC | WATERTOWN, SD | 12/18/2003
HYLAND MEDICAL, P C | SALT LAKE CITY, UT | 12/18/2003
LEONARD WALKER, MD, PA | VERO BEACH, FL | 12/18/2003
NORTHRIDGE DENTAL | NORTHRIDGE, CA | 12/18/2003
SUPPORTIVE HEALTH SERVICES CORP | MIAMI, FL | 12/18/2003
TRUSTED CARE SERVICES, INC | MEQUON, WI | 12/18/2003
DEFAULT ON HEAL LOAN:
AITKEN, STEVEN | PORTSMOUTH, OH | 10/29/2003
ANDRONICO, KENNETH | FORT MYERS, FL | 11/12/2003
HOLLOWAY, JIMMY | MONAHANS, TX 1 | 0/29/2003
MAMBY, AUDLEY | HASLETT, MI | 10/27/2003
ORDONEZ-SANSUSKY, LISA | LOS ALTOS, CA | 12/18/2003
SCHWARTZ, MOSHE | OWINGS MILLS, MD | 12/18/2003
VILLARREAL, JOSE | MCALLEN, TX | 12/18/2003

Dated: December 1, 2003.
Katherine B. Petrowski,
Director, Exclusions Staff, Office of Inspector General.

[FR Doc. 03-30552 Filed 12-9-03; 8:45 am]

BILLING CODE 4150-04-P